DEPARTMENT OF COMMERCE

International Trade Administration

(A-549-813)

Continuation of Antidumping Duty Order on Canned Pineapple Fruit from Thailand

AGENCY: Import Administration, International Trade Administration, Department of Commerce.

SUMMARY: As a result of the determinations by the Department of Commerce (the Department) and the International Trade Commission (ITC) that revocation of the antidumping duty order on canned pineapple fruit (CPF) from Thailand would likely lead to continuation or recurrence of dumping, and material injury to an industry in the United States, the Department is publishing notice of continuation of this antidumping duty order.

EFFECTIVE DATE: April 16, 2007.

FOR FURTHER INFORMATION CONTACT: Martha Douthit or Maureen Flannery, AD/CVD Operations, Office 6, Import Administration, International Trade Administration, U.S. Department of Commerce, 14th Street and Constitution Avenue, NW, Washington, DC 20230; telephone: (202) 482-5050 or (202) 482-3020, respectively.

SUPPLEMENTARY INFORMATION:

Background

The Department initiated and the ITC instituted sunset reviews of the antidumping duty order on CPF from Thailand, pursuant to section 751(c) of the Tariff Act of 1930, as amended (the Act). See Initiation of Five-year (“Sunset”) Reviews; 71 FR 16551 (April 3, 2006), and Institution of a five-year review concerning the antidumping duty order on canned pineapple fruit from Thailand; 71 FR 16585 (April 3, 2006).

As a result of its review, the Department found that revocation of the antidumping duty order would likely lead to continuation or recurrence of dumping, and notified the ITC of the magnitude of the margins likely to prevail were the order to be revoked. See Canned Pineapple Fruit from Thailand; Final Results of the Full Sunset Review of Antidumping Duty Order; 72 FR 9921 (March 6, 2007).

On April 4, 2007, the ITC determined, pursuant to section 751(c) of the Act, that revocation of the antidumping duty order on canned pineapple fruit from Thailand would likely lead to continuation or recurrence of material injury to an industry in the United States within a reasonably foreseeable time. See Canned Pineapple Fruit from Thailand; 72 FR 16384 (April 4, 2007), and USITC Publication 3911 (March 2007), (Inv. No. 731-TA-706) (Second Review).

Scope of the Order

The product covered by the order is CPF, defined as pineapple processed and/or prepared into various product forms, including rings, pieces, chunks, tidbits, and crushed pineapple, that is packed and cooked in metal cans with either pineapple juice or sugar syrup added. Imports of canned pineapple fruit are currently classifiable under subheadings 2008.20.0010 and 2008.20.0090 of the Harmonized Tariff Schedule of the United States (HTSUS). HTSUS 2008.20.0010 covers canned pineapple fruit packed in a sugar-based syrup; HTSUS 2008.20.0090 covers canned pineapple fruit packed without added sugar (i.e., juice-packed).

The HTSUS subheadings are provided for convenience and customs purposes. The written description of the merchandise covered by this order is dispositive

Continuation of Order

As a result of the determinations by the Department and the ITC that revocation of the antidumping duty order would likely lead to continuation or recurrence of dumping and material injury to an industry in the United States, pursuant to section 751(d)(2) of the Act, the Department hereby orders the continuation of the antidumping duty order on canned pineapple fruit from Thailand. U.S. Customs and Border Protection will continue to collect antidumping duty cash deposits at the rates in effect at the time of entry for all imports of subject merchandise.

The effective date of continuation of this order will be the date of publication in the Federal Register of this Notice of Continuation. Pursuant to sections 751(c)(2) and 751(c)(6)(A) of the Act, the Department intends to initiate the next five-year review of this order not later than March 2012.

This five-year (sunset) review and this notice are in accordance with section 751(c) of the Act and published pursuant to section 777(i)(1) of the Act.

Dated: April 10, 2007.
David M. Spooner,
Assistant Secretary for Import Administration.

[FR Doc. E7-7175 Filed 4-13-07; 8:45 am]

BILLING CODE 3510-DS-S